DEPARTMENT OF COMMERCE

Foreign-Trade Zones Board

[B-12-2022]

Foreign-Trade Zone (FTZ) 38—Spartanburg County, South Carolina, Notification of Proposed Production Activity, Swafford Warehousing, Inc. (Medical Kits), Greer, South Carolina

The South Carolina State Ports Authority, grantee of FTZ 38, submitted a notification of proposed production activity to the FTZ Board (the Board) on behalf of Swafford Warehousing, Inc., located in Greer, South Carolina under FTZ 38. The notification conforming to the requirements of the Board's regulations (15 CFR 400.22) was received on April 5, 2022.

Pursuant to 15 CFR 400.14(b), FTZ production activity would be limited to the specific foreign-status component described in the submitted notification (summarized below) and subsequently authorized by the Board. The benefits that may stem from conducting production activity under FTZ procedures are explained in the background section of the Board's website—accessible via www.trade.gov/ftz. The proposed material/component would be added to the production authority that the Board previously approved for the operation, as reflected on the Board's website.

The applicant is proposing to include foreign-status prep razors (disposable, plastic handle with steel blades, used for surgery preparation) (duty free). The request indicates the component is subject to duties under section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is May 23, 2022.

A copy of the notification will be available for public inspection in the “Online FTZ Information System” section of the Board's website.

For further information, contact Diane Finver at Diane.Finver@trade.gov.

Dated: April 7, 2022.
Andrew McGilvray,
Executive Secretary.

[FR Doc. 2022-07862 Filed 4-12-22; 8:45 am]

BILLING CODE 3510-DS-P